DEPARTMENT OF ENERGY

Federal Energy Regulatory Commission

[Docket No. CP00-162-000]

El Paso Natural Gas Company; Notice of Request Under Blanket Authorization

April 4, 2000.

Take notice that on March 29, 2000, El Paso Natural Gas Company (El Paso), Post Office Box 1492, El Paso, Texas 79978, filed a request with the Commission in Docket No. CP00-162-000, pursuant to Section 157.216(b) of the Commission's Regulations under the Natural Gas Act (NGA) for authorization to abandon by removal the Belen City Gate Meter Station authorized in blanket certificate issued in Docket No. CP82-435-000, all as more fully set forth in the request on file with the Commission and open to public inspection. This filing may be viewed on the web at http://www.ferc.fed.us/online/rims.htm (call 202-208-2222 for assistance).

El Paso proposes to abandon by removal the Belen City Gate Meter Station, serving PNM Gas Services, a division of Public Service Company of New Mexico (PNMGS). El Paso states that authorization for a budget-type sales facilities and services, including the Belen City Gate Meter Station, with appurtenances was received by order issued on December 14, 1967 in Docket No. CP68-88-000. El Paso reports that the facility was required by El Paso to facilitate the delivery, measurement and sale of natural gas from its interstate transmission pipeline system to PNMGS for resale. El Paso continues that due to load growth in the Belen and Los Lunas, New Mexico areas PNMGS has expanded its distribution system, and that PNMGS has requested El Paso to construct, install and operate a new delivery point, the Belen North Delivery Point, near its newly expanded system.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-8753 Filed 4-7-00; 8:45 am]

BILLING CODE 6717-01-M